DEPARTMENT OF JUSTICE

[OMB No. 1121-0255]

Agency Information Collection Activities; Reinstatement of a Previously Approved Collection; Comments Requested: 2013 Census of Law Enforcement Training Academies

ACTION: 30-Day Notice.

The Department of Justice (DOJ), Office of Justice Programs, Bureau of Justice Statistics (BJS), will be submitting the following information collection request to the Office of Management and Budget (OMB) for review and approval in accordance with the Paperwork Reduction Act of 1995. The proposed information collection is published to obtain comments from the public and affected agencies. This proposed information collection was previously published in the Federal Register Volume 78, Number 39, pages 13381-13382, on February 27, 2013, allowing for a 60-day comment period.

The purpose of this notice is to allow for an additional 30 days for public comment until July 18, 2013. This process is conducted in accordance with 5 CFR 1320.10.

If you have comments especially on the estimated public burden or associated response time, suggestions, or need a copy of the proposed information collection instrument with instructions or additional information, please contact Brian A. Reaves, Bureau of Justice Statistics, 810 Seventh St. NW., Washington, DC 20531 (phone: 202-616-3287).

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Evaluate whether, and if so, how the quality, utility, and clarity of the information to be collected can be enhanced; and

—Ways to minimize the burden of the collection of information on those who are to respond, including through the use of appropriate automated, electronic, mechanical, or other technological collection techniques or other forms of information technology, e.g., permitting electronic submission of responses.

Overview of This Information Collection

(1) Type of Information Collection: Reinstatement, with change, of a previously approved collection for which approval has expired.

(2) Title of the Form/Collection: 2013 Census of Law Enforcement Training Academies.

(3) Agency form number, if any, and the applicable component of the Department of Justice sponsoring the collection: Form Number: CJ-52.

(4) Affected public who will be asked or required to respond, as well as a brief abstract: Primary: State and Local Government. This information collection is a census of law enforcement training academies. The affected public that will be asked to respond will include approximately 700 state, regional, county, municipal, campus, and tribal law enforcement training academies that operate basic training programs. The information will provide national statistics on law enforcement training staff, recruits/trainees, curricula, facilities, and policies.

This collection is the only national effort devoted to describing and understanding the training received by recruits entering the profession of law enforcement. The collection enables BJS, other federal agencies, and state, regional, local, campus, and tribal law enforcement authorities, as well as legislators and researchers, to track changes in the characteristics of basic recruits and their training programs.

(5) An estimate of the total number of respondents and the average amount of time for a respondent to respond: It is estimated that 700 respondents will complete a two-hour form. It is estimated that 70 of these respondents will be contacted a second time to participate in reliability testing for selected items. This testing will average about one hour per selected respondent.

(6) An estimate of the total public burden (in hours) associated with the collection: There are an estimated 1,470 total annual burden hours associated with this collection.

If additional information is required contact: Jerri Murray, Department Clearance Officer, United States Department of Justice, Justice Management Division, Policy and Planning Staff, Two Constitution Square, 145 N Street NE., Room 1407B, Washington, DC 20530.

Dated: June 12, 2013.
Jerri Murray,
Department Clearance Officer for PRA, U.S. Department of Justice.

[FR Doc. 2013-14350 Filed 6-17-13; 8:45 am]

BILLING CODE 4410-18-P